ENVIRONMENTAL PROTECTION AGENCY

40 CFR Parts 180, 185, and 186

[OPP-300753; FRL-6041-9]

RIN 2070-AB78

Consolidation of Certain Food and Feed Additive Tolerance Regulations

AGENCY: Environmental Protection Agency (EPA).

ACTION: Final rule; Technical amendments.

SUMMARY: The Office of Pesticide Programs is transferring certain of the pesticide food and feed additive regulations that are now in 40 CFR parts 185 and 186 to part 180. These regulations are being consolidate because as amatter of law all of the pesticide tolerances are now considered to be regulated under FFDCA section 408 as amended by the Food Quality Protection Act (Public Law 104-17) and they no longer need to be separate.

DATES: These technical amendments are effective on May 24, 2000.

FOR FURTHER INFORMATION CONTACT: By mail, Hoyt Jamerson, Registration Division (7505C), Office of Pesticide Programs, Environmental Protection Agency, 401 M St., SW., Washington, DC 20460. Office location, telephone number, and e-mail: 3rd floor, Crystal Mall (CM #2), 2100 Jefferson Davis Drive, Arlington, VA 22202, (703) 308-9368; e-mail: jamerson.hoyt@epamail.epa.gov.

SUPPLEMENTARY INFORMATION:

I. General Information

A. Does this Action Apply to Me?

You may be potentially affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in this table could also be affected. The North American Industrial Classification System (NAICS) codes are provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register-Environmental Documents.” You can also go directly to the Federal Register listings at http://www.epa.gov/fedrgstr/.

2. In person. The Agency has established an official record for this action under docket control number OPP-300756. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. “Good Cause” Finding

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because this rule contains technical, non-substantive amendments to 40 CFR. This rule transfers certain pesticide tolerances currently in 40 CFR parts 185 and 186 to 40 CFR part 180. There are no changes to the tolerances or to the commodities to which they apply. In addition, there are no reassessments of the adequacy of the tolerances under the Federal Food, Drug, and Cosmetic Act's (FFDCA) standards for safety. Thus, notice and public procedure are unnecessary. EPA finds that this constitutes good cause under 5 U.S.C. 553(b)(B).

II. Background

What Action is the Agency Taking?

EPA is transferring certain pesticide tolerances currently in 40 CFR parts 185 and 186 to 40 CFR part 180.

Before the passage of the Food Quality Protection Act (FQPA), pesticide residues in food and feed were regulated under two sections of the FFDCA. Residues in raw agricultural commodities were regulated under section 408 of the FFDCA. The term “raw agricultural commodity” is defined in section 201(r) of the FFDCA as any food in its raw or natural state, including all fruits that are washed, colored, or otherwise treated in their unpeeled natural form prior to marketing. Pesticide residues in processed food or animal feed were regulated as “food additives” under section 409 of the FFDCA. Because there were legal differences in authority and how and when tolerances could be established under sections 408 and 409, tolerances for the same pesticide could appear in several parts of the Code of Federal Regulations.

FQPA clarified the status of pesticide residues and brought all pesticide residues in food and feed under the authority of section 408 of the FFDCA. In addition, FQPA added a definition of “processed food” for the first time (section 201(gg) of the FFDCA). The term “processed food” is defined in section 201(gg) of the FFDCA as “any food other than a raw agricultural food and includes any raw agricultural commodity that has been subject to processing....” Subsequent to the passage of the FQPA, Congress, in the Antimicrobial Regulation Technical Corrections Act of 1988 (ARTCA)(Public Law 105-324), amended the definition of “pesticide residue” in section 201(q) of the FFDCA so as to exclude certain antimicrobial pesticide residues in raw and processed foods from the authority of section 408. These residues now fall within the coverage of FFDCA section 409. Since the statute has consolidated much authority for and treatment of pesticide chemical residues in food and feed under FFDCA section 408, EPA is now transferring those pesticide regulations established under section 409 that pertain to pesticide chemical residues now covered by section 408 to the portion of the CFR, part 180, in which section 408 tolerance regulations are collected.

Published elsewhere in this separate part, EPA is transfering some of the regulations from parts 185 and 186 to part 180. With this document, all tolerances have been transferred, and users will be able to determine all the tolerances for a single pesticide chemical by referring to the listings in part 180.

While EPA believes that it has accurately transferred each of the tolerances included in this rule, the Agency would appreciate readers notifying EPA of discrepancies, omissions or technical problems by submitting any comments to the address or e-mail address under FOR FURTHER INFORMATION CONTACT. These would be corrected in a future rule.

EPA is not at this time making any changes in the tolerances or the commodities to which they apply, nor is EPA reassessing the adequacy of the tolerances under FFDCA standards for safety. Further, EPA is not at this time standardizing the terminology used to describe various food commodities. EPA is aware that there may be inconsistencies in the description of food commodities among parts 180, 185 and 186. EPA will make such changes when all tolerances have been consolidated.

No tolerances are revoked by this rule. Duplicate tolerance entries, which would be created by transfering food and feed additive tolerances established for the same food commodity at the same tolerance level from parts 185 and 186 to the corresponding part 180 section, have been deleted.

The following distribution table shows the new location of the provisions formerly in parts 185 and 186 now in part 180.

Old Sections | New Section
185.3700 | 180.123(a)(3)
186.3700 | 180.123(a)(3)
185.4900 | 180.127(a)(2)
186.4900 | 180.127(a)(3)
185.5200 | 180.128(a)(2)
186.5200 | 180.128(a)(3)
185.1350 | 180.144(a) table
186.1350 | 180.144(a) table
185.6300 | 180.176(a) table
186.6300 | 180.176(a) table
185.2500 | 180.226(a)(5)
186.2500 | 180.226(a)(6)
185.1800 | 180.227(a)(1) table
186.1800(a) and (b) | 180.227(a)(1) table
185.5000 | 180.259(a) table
186.5000 | 180.259(a) table
185.150 | 180.269(a) table
186.150 | 180.269(a) table
185.2700 | 180.300(a) table
186.2700(a) | 180.300(a) table
185.1000(a), (b), (c) and (d) | 180.342(a)(1) table, (a)(3), (4), (2) table, respectively
186.1000 | 180.342(a)(1) table
185.2950 | 180.349(a)(1)
186.2950 | 180.349(a)(1)
185.4150 | 180.359(a)(1) table
186.4150(a), (b), (c) | 180.359(a)(2)(i), (ii), and (iii), respectively
186.4150(d) | 180.359(a)(1) table
185.3550 | 180.362(a) table
186.3550(a) | 180.362(a) table
185.4500 | 180.367(a)(2)
185.5950 | 180.382(a) table
186.5950 | 180.382(a) table
185.3575 | 180.396(c) table
186.3575 | 180.396(c) table
185.4950(a) and (b), respectively | 180.409(a)(2), and (3)
186.4950 | 180.409(a)(2)
185.3250 | 180.411(a)(1) table
186.3250 | 180.411(a)(1) table
185.3650 | 180.413(a)(1) table
186.3650 | 180.413(a)(1) table
185.1050 | 180.419(a)(2)
186.1050 | 180.419(a)(2)
185.1200 | 180.538
185.3775 and 186.3775 | 180.539
185.2200 | 180.540
185.5100 | 180.541(a)(1)
186.5100 | 180.541(a)(2)
185.3000 | 180.542
185.1700 and 186.1700 | 180.1017(b)
185.650 | 180.1049(a)
185.4400 | 180.1050
185.1150 | 180.1051
185.4035 and 186.4035 | 180.1116

III. Regulatory Assessment Requirements

Under Executive Order 12866 (58 FR 51735, October 4, 1993), this action is not a “significant regulatory action” and is therefore not subject to review by the Office of Management and Budget. Because the agency has made a “good cause” finding that this action is not subject to notice-and-comment requirements under the Administrative Procedure Act, it is not subject to the provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule is not subject to Executive Order 13045 (62 FR 19885, April 23, 1997), because it is not economically significant. This rule does not involve technical standards; thus, the requirements of section 12(d) of the National Technology Transfer and Advancement Act of 1995 (15 U.S.C. 272 note) do not apply. The rule does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

IV. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. EPA has made such a good cause finding, including the reasons therefor, and established an effective date of June 24, 2000. EPA will submit a report containing this rule and other required information to the U.S. Senate, the U.S. House of Representatives, and the Comptroller General of the United States prior to publication of the rule in the Federal Register. This action is not a “major rule” as defined by 5 U.S.C. 804(2).

List of Subjects

40 CFR Part 180

Environmental protection, Administrative practice and procedure, Agricultural commodities, Pesticides and pests, Reporting and recordkeeping requirements.

40 CFR Part 185

Environmental protection, Food additives, Pesticides and pests.

40 CFR Part 186

Environmental protection, Animal feeds, Pesticides and pests.

Dated: May 10, 2000.
Susan B. Hazen,
Acting Director, Office of Pesticide Programs.

Therefore, 40 CFR chapter I, parts 180, 185 and 186 are amended as follows:

I. By amending part 180 as follows:

PART 180—[AMENDED]

1. The authority citation for part 180 continues to read as follows:

Authority: 21 U.S.C. 321(q), 346a and 371.

2. By revising § 180.123 to read as follows:

§ 180.123 Inorganic bromide residues resulting from fumigation with methyl bromide; tolerances for residues.

(a) General. (1) Tolerances are established for residues of inorganic bromides (calculated as Br) in or on the following food commodities which have been fumigated with the antimicrobial agent and insecticide methyl bromide after harvest (with the exception of strawberries):

Commodity | Parts per million
Alfalfa, hay (POST-H) | 50.0
Almonds (POST-H) | 200.0
Apples (POST-H) | 5.0
Apricots (POST-H) | 20.0
Artichokes, Jerusalem (POST-H) | 30.0
Asparagus (POST-H) | 100.0
Avocados (POST-H) | 75.0
Barley (POST-H) | 50.0
Beans (POST-H) | 50.0
Beans, green (POST-H) | 50.0
Beans, lima (POST-H) | 50.0
Beans, snap (POST-H) | 50.0
Beets, garden, roots (POST-H) | 30.0
Beets, sugar, roots (POST-H) | 30.0
Blueberries (POST-H) | 20.0
Brazil nuts (POST-H) | 200.0
Bush nuts (POST-H) | 200.0
Butternuts (POST-H) | 200.0
Cabbage (POST-H) | 50.0
Cantaloupes (POST-H) | 20.0
Carrots (POST-H) | 30.0
Cashews (POST-H) | 200.0
Cherries (POST-H) | 20.0
Chestnuts (POST-H) | 200.0
Cippolini, bulbs (POST-H) | 50.0
Citrus citron (POST-H) | 30.0
Cocoa beans (POST-H) | 50.0
Coffee beans (POST-H) | 75.0
Copra (POST-H) | 100.0
Corn (POST-H) | 50.0
Corn (pop) (POST-H) | 240.0
Corn, sweet (K+CWHR) (POST-H) | 50.0
Cottonseed (POST-H) | 200.0
Cucumbers (POST-H) | 30.0
Cumin, seed (POST-H) | 100.0
Eggplants (POST-H) | 20.0
Filberts (Hazelnuts) (POST-H) | 200.0
Garlic (POST-H) | 50.0
Ginger, roots (POST-H) | 100.0
Grapefruit (POST-H) | 30.0
Grapes (POST-H) | 20.0
Hickory nuts (POST-H) | 200.0
Honeydew melons (POST-H) | 20.0
Horseradish (POST-H) | 30.0
Kumquats (POST-H) | 30.0
Lemons (POST-H) | 30.0
Limes (POST-H) | 30.0
Mangoes (POST-H) | 20.0
Muskmelons (POST-H) | 20.0
Nectarines (POST-H) | 20.0
Oats (POST-H) | 50.0
Okra (POST-H) | 30.0
Onions (POST-H) | 20.0
Oranges (POST-H) | 30.0
Papayas (POST-H) | 20.0
Parsnips, roots (POST-H) | 30.0
Peaches (POST-H) | 20.0
Peanuts (POST-H) | 200.0
Pears (POST-H) | 5.0
Peas (POST-H) | 50.0
Peas, blackeyed (POST-H) | 50.0
Pecans (POST-H) | 200.0
Peppers (POST-H) | 30.0
Pimentos (POST-H) | 30.0
Pineapples (POST-H) | 20.0
Pistachio nuts (POST-H) | 200.0
Plums (POST-H) | 20.0
Pomegranates (POST-H) | 100.0
Potatoes (POST-H) | 75.0
Pumpkins (POST-H) | 20.0
Quinces (POST-H) | 5.0
Radishes (POST-H) | 30.0
Rice (POST-H) | 50.0
Rutabagas (POST-H) | 30.0
Rye (POST-H) | 50.0
Salsify, roots (POST-H) | 30.0
Sorghum, grain (POST-H) | 50.0
Soybeans (POST-H) | 200.0
Squash, summer (POST-H) | 30.0
Squash, winter (POST-H) | 20.0
Squash, zucchini (POST-H) | 20.0
Strawberries (PRE- and POST-H) | 60.0
Sweet potatoes (POST-H) | 75.0
Tangerines (POST-H) | 30.0
Timothy, hay (POST-H) | 50.0
Tomatoes (POST-H) | 20.0
Turnips, roots (POST-H) | 30.0
Walnuts (POST-H) | 200.0
Watermelons (POST-H) | 20.0
Wheat | 50.0

(2) Inorganic bromide may be present as a residue in certain processed foods in accordance with the following conditions:

(i) When inorganic bromide residues are is present as a result of fumigation of the processed food with methyl bromide or from such fumigation in addition to the authorized use of methyl bromide on the source raw agricultural commodity, as provided for in this part, the total residues of inorganic bromides (calculated as Br) shall not exceed the following levels:

(A) 400 parts per million in or on dried eggs and processed herbs and spices.

(B) 325 parts per million in or on parmesan cheese and roquefort cheese.

(C) 250 parts per million in or on concentrated tomato products and dried figs.

(D) 125 parts per million in or on processed foods other than those listed above.

(ii) When inorganic bromide residues are present in fermented malt beverages in accordance with 21 CFR 172.730(a)(2), the amount shall not exceed 25 parts per million (calculated as Br).

(iii) Where tolerances are established on both the raw agricultural commodities and processed foods made therefrom, the total residues of inorganic bromides in or on the processed food shall not be greater than those designated in paragraph (a)(2) of this section, unless a higher level is established elsewhere in this part.

(3) Tolerances are established for residues of inorganic bromides (calculated as Br) as follows:

(i) 400 parts per million for residues in or on dog food, resulting from fumigation with methyl bromide.

(ii) 125 parts per million for residues in or on milled fractions for animal feed from barley, corn, grain sorghum (milo), oats, rice, rye, and wheat, resulting directly from fumigation with methyl bromide or from carryover and concentration of residues of inorganic bromides from fumigation of the grains with methyl bromide.

(b) Section 18 emergency exemptions. [Reserved]

(c) Tolerances with regional registrations. A tolerance with regional registration, as defined in § 180.1(n), is established for residues of inorganic bromides (calculated as Br) in or on the following food commodity grown in soil fumigated with methyl bromide.

Commodity | Parts per million
Ginger, roots (PRE- and POST-H) | 100

(d) Indirect or inadvertent residues. [Reserved]

3. By revising § 180.127 to read as follows:

§ 180.127 Piperonyl butoxide; tolerances for residues.

(a) General. (1) Tolerances for residues of the insecticide piperonyl butoxide [(butyl carbityl)(6-propyl piperonyl)ether] are established in or on the following food commodities:

Commodity | Parts per million
Almonds (POST-H) | 8
Apples (POST-H) | 8
Barley (POST-H) | 20
Beans (POST-H) | 8
Birdseed mixtures (POST-H) | 20
Blackberries (POST-H) | 8
Blueberries (huckleberries) (POST-H) | 8
Boysenberries (POST-H) | 8
Buckwheat (POST-H) | 20
Cattle, fat | 0.1(N)
Cattle, mbyp | 0.1(N)
Cattle, meat | 0.1(N)
Cherries (POST-H) | 8
Cocoa beans (POST-H) | 8
Copra (POST-H) | 8
Corn (including popcorn) (POST-H) | 20
Cottonseed (POST-H) | 8
Crabapples (POST-H) | 8
Currants (POST-H) | 8
Dewberries (POST-H) | 8
Eggs | 1
Figs (POST-H) | 8
Flaxseed (POST-H) | 8
Goats, fat | 0.1(N)
Goats, mbyp | 0.1(N)
Goats, meat | 0.1(N)
Gooseberries (POST-H) | 8
Grain sorghum (POST-H) | 8
Grapes (POST-H) | 8
Guavas (POST-H) | 8
Hogs, fat | 0.1(N)
Hogs, mbyp | 0.1(N)
Hogs, meat | 0.1(N)
Horses, fat | 0.1(N)
Horses, mbyp | 0.1(N)
Horses, meat | 0.1(N)
Loganberries (POST-H) | 8
Mangoes (POST-H) | 8
Milk fat (reflecting negligible residues in milk) | 0.25
Muskmelons (POST-H) | 8
Oats (POST-H) | 8
Oranges (POST-H) | 8
Peaches (POST-H) | 8
Peanuts (with shell removed) (POST-H) | 8
Pears (POST-H) | 8
Peas (POST-H) | 8
Pineapples (POST-H) | 8
Plums (fresh prunes) (POST-H) | 8
Potatoes (POST-H) | 0.25
Poultry, fat | 3
Poultry, mbyp | 3
Poultry, meat | 3
Raspberries (POST-H) | 8
Rice (POST-H) | 20
Rye (POST-H) | 20
Sheep, fat | 0.1(N)
Sheep, mbyp | 0.1(N)
Sheep, meat | 0.1(N)
Sweet potatoes (POST-H) | 0.25
Tomatoes (POST-H) | 8
Walnuts (POST-H) | 8
Wheat (POST-H) | 20

(2) Piperonyl butoxide may be safely used in accordance with the following prescribed conditions:

(i) It is used or intended for use in combination with pyrethrins for control of insects:

(A) In cereal grain mills and in storage areas for milled cereal grain products, whereby the amount of piperonyl butoxide is at least equal to but not more than 10 times the amount of pyrethrins in the formulation.

(B) On the outer ply of multiwall paper bags of 50 pounds or more capacity in amounts not exceeding 60 milligrams per square foot, whereby the amount of piperonyl butoxide is equal to 10 times the amount of pyrethrins in the formulation. Such treated bags are to be used only for dried foods.

(C) On cotton bags of 50 pounds or more capacity in amounts not exceeding 55 milligrams per square foot of cloth, whereby the amount of piperonyl butoxide is equal to 10 times the amount of pyrethrins in the formulation. Such treated bags are constructed with waxed paper liners and are to be used only for dried foods that contain 4 percent fat or less.

(D) In two-ply bags consisting of cellophane/polyolefin sheets bound together by an adhesive layer when it is incorporated in the adhesive. The treated sheets shall contain not more than 50 milligrams of piperonyl butoxide per square foot (538 milligrams per square meter). Such treated bags are to be used only for packaging prunes, raisins, and other dried fruits and are to have a maximum ratio of 3.12 milligrams of piperonyl butoxide per ounce of fruit (0.10 milligram of piperonyl butoxide per gram of product).

(E) In food processing and food storage areas: Provided, That the food is removed or covered prior to such use.

(ii) It is used or intended for use in combination with pyrethrins and N-octylbicycloheptene dicarboximide for insect control in accordance with 21 CFR 178.3730.

(iii) A tolerance of 10 parts per million is established for residues of piperonyl butoxide in or on:

(A) Milled fractions derived from cereal grains when present therein as a result of its use in cereal grain mills and in storage areas for milled cereal grain products.

(B) Dried foods when present as a result of migration from its use on the outer ply of multiwall paper bags of 50 pounds or more capacity.

(C) Foods treated in accordance with 21 CFR 178.3730.

(D) Dried foods that contain 4 percent fat, or less, when present as a result of migration from its use on the cloth of cotton bags of 50 pounds or more capacity constructed with waxed paper liners.

(E) Foods treated in accordance with paragraph (a)(2)(i)(D) and (E) of this section.

(iv) To assure safe use of the pesticide, its label and labeling shall conform to that registered with the U.S. Environmental Protection Agency, and it shall be used in accordance with such label and labeling.

(v) Where tolerances are established on both raw agricultural commodities and processed foods made therefrom, the total residues of piperonyl butoxide in or on the processed food shall not be greater than that permitted by the larger of the two tolerances.

(3) Piperonyl butoxide may be safely used in accordance with the following prescribed conditions:

(i) It is used or intended for use in combination with pyrethrins for control of insects:

(A) On the outer ply of multiwall paper bags of 50 pounds or more capacity in amounts not exceeding 60 milligrams per square foot.

(B) On cotton bags of 50 pounds or more capacity in amounts not exceeding 55 milligrams per square foot of cloth. Such treated bags are constructed with waxed paper liners and are to be used only for dried feeds that contain 4 percent fat or less.

(ii) It is used in combination with pyrethrins, whereby the amount of piperonyl butoxide is equal to 10 times the amount of pyrethrins in the formulation. Such treated bags are to be used only for dried feeds.

(iii) A tolerance of 10 parts per million is established for residues of piperonyl butoxide when present as the result of migration:

(A) In or on dried feeds from its use on the outer ply of multiwall paper bags of 50 pounds or more capacity.

(B) In or on dried feeds that contain 4 percent fat, or less, from its use on cotton bags of 50 pounds or more capacity constructed with waxed paper liners.

(iv) To assure safe use of the pesticide, its label and labeling shall conform to that registered with the U.S. Environmental Protection Agency.

(v) Where tolerances are established on both the raw agricultural commodities and processed foods made therefrom, the total residues of piperonyl butoxide in or on the processed food shall not be greater than that permitted by the larger of the two tolerances.

(b) Section 18 emergency exemptions. [Reserved]

(c) Tolerances with regional registrations. [Reserved]

(d) Indirect or inadvertent residues. [Reserved]

4. By revising § 180.128 to read as follows:

§ 180.128 Pyrethrins; tolerances for residues.

(a) General. (1) Tolerances for residues of the insecticide pyrethrins (insecticidally active principles of Chrysanthemum cinerariaefolium) are established in or on the following food commodities:

Commodity | Parts per million
Almonds (POST-H) | 1
Apples (POST-H) | 1
Barley (POST-H) | 3
Beans (POST-H) | 1
Birdseed mixtures (POST-H) | 3
Blackberries (POST-H) | 1
Blueberries (huckleberries) (POST-H) | 1
Boysenberries (POST-H) | 1
Buckwheat (POST-H) | 3
Cattle, fat | 0.1(N)
Cattle, mbyp | 0.1(N)
Cattle, meat | 0.1(N)
Cherries (POST-H) | 1
Cocoa beans (POST-H) | 1
Copra (POST-H) | 1
Corn (including popcorn) (POST-H) | 3
Cottonseed (POST-H) | 1
Crabapples (POST-H) | 1
Currants (POST-H) | 1
Dewberries (POST-H) | 1
Eggs | 0.1(N)
Figs (POST-H) | 1
Flaxseed (POST-H) | 1
Goats, fat | 0.1(N)
Goats, mbyp | 0.1(N)
Goats, meat | 0.1(N)
Gooseberries (POST-H) | 1
Grain sorghum (POST-H) | 1
Grapes (POST-H) | 1
Guavas (POST-H) | 1
Hogs, fat | 0.1(N)
Hogs, mbyp | 0.1(N)
Hogs, meat | 0.1(N)
Horses, fat | 0.1(N)
Horses, mbyp | 0.1(N)
Horses, meat | 0.1(N)
Loganberries (POST-H) | 1
Mangoes (POST-H) | 1
Milk fat (reflecting negligible residues in milk) | 0.5
Muskmelons (POST-H) | 1
Oats (POST-H) | 1
Oranges (POST-H) | 1
Peaches (POST-H) | 1
Peanuts (with shell removed) (POST-H) | 1
Pears (POST-H) | 1
Peas (POST-H) | 1
Pineapples (POST-H) | 1
Plums (fresh prunes) (POST-H) | 1
Potatoes (POST-H) | 0.05
Poultry, fat | 0.2
Poultry, mbyp | 0.2
Poultry, meat | 0.2
Raspberries (POST-H) | 1
Rice (POST-H) | 3
Rye (POST-H) | 3
Sheep, fat | 0.1(N)
Sheep, mbyp | 0.1(N)
Sheep, meat | 0.1(N)
Sweet potatoes (POST-H) | 0.05
Tomatoes (POST-H) | 1
Walnuts (POST-H) | 1
Wheat (POST-H) | 3

(2) Pyrethrins may be safely used in accordance with the following prescribed conditions:

(i) It is used or intended for use in combination with piperonyl butoxide for control of insects:

(A) In cereal grain mills and in storage areas for milled cereal grain products, whereby the amount of pyrethrins is from 10 percent to 100 percent of the amount of piperonyl butoxide in the formulation.

(B) On the outer ply of multiwall paper bags of 50 pounds or more capacity in amounts not exceeding 6 milligrams per square foot, whereby the amount of pyrethrins is equal to 10 percent of the amount of piperonyl butoxide in the formulation. Such treated bags are to be used only for dried foods.

(C) On cotton bags of 50 pounds or more capacity in amounts not exceeding 5.5 milligrams per square foot of cloth, whereby the amount of pyrethrins is equal to 10 percent of the amount of piperonyl butoxide in the formulation. Such treated bags are constructed with waxed paper liners and are to be used only for dried foods that contain 4 percent fat or less.

(D) In two-ply bags consisting of cellophane/polyolefin sheets bound together by an adhesive layer when it is incorporated in the adhesive. The treated sheets shall contain not more than 10 milligrams of pyrethrins per square foot (107.6 milligrams per square meter). Such treated bags are to be used only for packaging prunes, raisins, and other dried fruits and are to have a maximum ratio of 0.31 milligram of pyrethrins per ounce of fruit (0.01 milligram of pyrethrins per gram of product).

(E) In food processing areas and food storage areas: Provided, That the food is removed or covered prior to such use.

(ii) It is used or intended for use in combination with piperonyl butoxide and N-octylbicycloheptene dicarboximide for insect control in accordance with § 180.367(a)(2).

(iii) A tolerance of 1 part per million is established for residues of pyrethrins in or on:

(A) Milled fractions derived from cereal grains when present as a result of its use in cereal grain mills and in storage areas for milled cereal grain products.

(B) Dried foods when present as the result of migration from its use on the outer ply of multiwall paper bags of 50 pounds or more capacity.

(C) Foods treated in accordance with § 180.367(a)(2).

(D) Dried foods that contain 4 percent fat, or less, when present as a result of migration from its use on the cloth of cotton bags of 50 pounds or more capacity constructed with waxed paper liners.

(E) Foods treated in accordance with paragraphs (a)(2)(i)(D) and (a)(2)(i)(E)) of this section.

(iv) To assure safe use of the pesticide, its label and labeling shall conform to that registered with the U.S. Environmental Protection Agency, and it shall be used in accordance with such label and labeling.

(v) Where tolerances are established on both the raw agricultural commodities and processed foods made therefrom, the total residues of pyrethrins in or on the processed food shall not be greater than that permitted by the larger of the two tolerances.

(3) Pyrethrins may be safely used in accordance with the following prescribed conditions:

(i) It is used or intended for use in combination with piperonyl butoxide for control of insects:

(A) On the outer ply of multiwall paper bags of 50 pounds or more capacity in amounts not exceeding 6 milligrams per square foot.

(B) On cotton bags of 50 pounds or more capacity in amounts not exceeding 5.5 milligrams per square foot of cloth. Such treated bags are constructed with waxed paper liners and are to be used only for dried feeds that contain 4 percent fat or less.

(ii) It is used in combination with piperonyl butoxide, whereby the amount of pyrethrins is equal to 10 percent of the amount of piperonyl butoxide in the formulation. Such treated bags are to be used only for dried feeds.

(iii) A tolerance of 1 part per million is established for residues of pyrethrins when present as the result of migration:

(A) In or on dried feeds from its use on the outer ply of multiwall paper bags of 50 pounds or more capacity.

(B) In or on dried feeds that contain 4 percent fat, or less, from its use on cotton bags of 50 pounds or more capacity constructed with waxed paper liners.

(iv) To assure safe use of the pesticide, its label and labeling shall conform to that registered with the U.S. Environmental Protection Agency.

(v) Where tolerances are established on both raw agricultural commodities and processed foods made therefrom, the total residues of pyrethrins in or on the processed food shall not be greater than that permitted by the larger of the two tolerances.

(b) Section 18 emergency exemptions. [Reserved]

(c) Tolerances with regional registrations. [Reserved]

(d) Indirect or inadvertent residues. [Reserved]

5. By revising § 180.144 to read as follows:

§ 180.144 Cyhexatin; tolerances for residues.

(a) General. Tolerances are established for combined residues of the pesticide cyhexatin (tricyclohexylhydroxystannane; CAS Reg. No. 13121-70-5) and its organotin metabolites (calculated as cyhexatin) in or on the following food commodities:

Commodity | Parts per million
Almonds | 0.5
Almonds, hulls | 60
Apples | 2
Cattle, fat | 0.2
Cattle, kidney | 0.5
Cattle, liver | 0.5
Cattle, mbyp (exc. kidney, liver) | 0.2
Cattle, meat | 0.2
Citrus fruits | 2
Citrus pulp, dried | 8
Goats, fat | 0.2
Goats, kidney | 0.5
Goats, liver | 0.5
Goats, mbyp (exc kidney, liver) | 0.2
Goats, meat | 0.2
Hogs, fat | 0.2
Hogs, kidney | 0.5
Hogs, liver | 0.5
Hogs, mbyp (exc kidney, liver) | 0.2
Hogs, meat | 0.2
Hops | 30
Hops, dried | 90
Horses, fat | 0.2
Horses, kidney | 0.5
Horses, liver | 0.5
Horses, mbyp (exc kidney, liver) | 0.2
Horses, meat | 0.2
Macadamia nuts | 0.5
Milk, fat (=N in whole milk) | 0.05
Nectarines | 4
Peaches | 4
Pears | 2
Plums (fresh prunes) | 1
Prunes, dried | 4
Sheep, fat | 0.2
Sheep, kidney | 0.5
Sheep, liver | 0.5
Sheep, mbyp (exc kidney, liver) | 0.2
Sheep, meat | 0.2
Strawberries | 3
Walnuts | 0.5

(b) Section 18 emergency exemptions. [Reserved]

(c) Tolerances with regional registrations. [Reserved]

(d) Indirect or inadvertent residues. [Reserved]

6. By revising § 180.176 to read as follows:

§ 180.176 Mancozeb; tolerances for residues.

(a) General. Tolerances for residues of a fungicide which is a coordination product of zinc ion and maneb (manganous ethylene-bisdithiocarbamate) containing 20 percent manganese, 2.5 percent zinc, and 77.5 percent ethylene-bisdithiocarbamate (the whole product calculated as zinc ethylenebisdithiocarbamate), are established as follows:

Commodity | Parts per million
Apples | 7
Asparagus (negligible residue) | 0.1
Bananas | 4.0
Bananas, pulp (no peel) | 0.5
Barley, grain | 5
Barley, milled feed fractions | 20
Barley, straw | 25
Carrots | 2
Celery | 5
Corn, fodder | 5
Corn, forage | 5
Corn grain (except popcorn grain) | 0.1
Cottonseed | 0.5
Crabapples | 10
Cranberries | 7
Cucumbers | 4
Fennel | 10
Fresh corn (including sweet corn, kernels plus cob with husk removed) | 0.5
Grapes | 7
Kidney | 0.5
Liver | 0.5
Melons | 4
Oats, bran | 20
Oats, grain | 5
Oats, milled feed fractions | 20
Oats, straw | 25
Onions (dry bulb) | 0.5
Papayas (whole fruit with no residue present in the edible pulp after the peel is removed and discarded) | 10
Peanuts | 0.5
Peanut vine hay | 65
Pears | 10
Popcorn grain | 0.5
Quinces | 10
Rye, grain | 5
Rye, milled feed fractions | 20
Rye, straw | 25
Sugar beets | 2
Sugarbeet tops | 65
Summer squash | 4
Tomatoes | 4
Wheat, grain | 5
Wheat, milled feed fractions | 20
Wheat, straw | 25

(b) Section 18 emergency exemptions. A time-limited tolerance is established for combined residues of the fungicide mancozeb, calculated as zinc ethylenebisdithiocarbamate and it's metabolite ETU in connection with use of the pesticide under a section 18 emergency exemption granted by EPA. The tolerance will expire and is revoked on the dates specified in the following table.

Commodity | Parts per million | Expiration/Revocation Date
Ginseng | 2.0 | 12/31/99

(c) Tolerances with regional registrations. [Reserved]

(d) Indirect or inadvertent residues. [Reserved]

7. By revising § 180.226 to read as follows:

§ 180.226 Diquat; tolerances for residues.

(a) General. (1) Tolerances are established for residues of the plant growth regulator diquat [6,7-dihydrodipyrido (1,2-a:2(a) Tolerancprime;,1-c) pyrazinediium] derived from application of the dibromide salt and calculated as the cation in or on the following food commodities:

Commodity | Parts per million
Cattle, fat | 0.02
Cattle, mbyp | 0.02
Cattle, meat | 0.02
Eggs | 0.02
Goats, fat | 0.02
Goats, mbyp | 0.02
Goats, meat | 0.02
Hogs, fat | 0.02
Hogs, mbyp | 0.02
Hogs, meat | 0.02
Horses, fat | 0.02
Horses, mbyp | 0.02
Horses, meat | 0.02
Milk | 0.02
Potato | 0.1
Potato, waste, dried | 1.0
Poultry, fat | 0.02
Poultry, mbyp | 0.02
Poultry, meat | 0.02
Sheep, fat | 0.02
Sheep, mbyp | 0.02
Sheep, meat | 0.02

(2)(i) Tolerances are established for residues of the herbicide diquat (6,7-dihydrodipyrido (1,2-a:2,1-c) pyrazinediium) (calculated as the cation) derived from the application of the dibromide salt to ponds, lakes, reservoirs, marshes, drainage ditches, canals, streams, and rivers which are slow-moving or quiescent in programs of the Corps of Engineers or other Federal or State public agencies and to ponds, lakes and drainage ditches only where there is little or no outflow of water and which are totally under the control of the user, in or on the following food commodities:

Commodity | Parts per million
Avocado | 0.02
Cotton, undelinted seed | 0.02
Fish | 0.1
Fruit, citrus, group | 0.02
Fruit, pome, group | 0.02
Fruits, small | 0.02
Fruit, stone, group | 0.02
Grain, crops | 0.02
Grass, forage | 0.1
Hop, dried cones | 0.02
Nut, tree, group | 0.02
Shellfish | 0.1
Sugarcane, cane | 0.02
Vegetable, cucurbit, group | 0.02
Vegetable, foliage of legume, group | 0.1
Vegetable, fruiting, group | 0.02
Vegetables, leafy | 0.02
Vegetable, root and tuber, group | 0.02
Vegetables, seed and pod | 0.02

(ii) Where tolerances are established at higher levels from other uses of diquat on the subject crops, the higher tolerances applies also to residues of the aquatic uses cited in this paragraph.

(3) Tolerances are established for the plant growth regulator diquat [6,7-dihydrodipyrido (1,2-a:2¼,1¼-c) pyrazinediium] derived from application of the dibromide salt and calculated as the cation in or on the following food commodities:

Commodity | Parts per million
Bananas | 0.05
Coffee | 0.05

(4) There are no U.S. registrations as of December 6, 1995.

(5) A tolerance of 0.5 part per million is established for residues of diquat in potato, granules/flakes and potato, chips.

(6) A tolerance regulation of 1.0 part per million (ppm) is established for residues of the desiccant diquat [6,7-dihydrodipyrido (1,2-a:2¼,1¼-c) pyrazinediium] derived from application of the dibromide salt and calculated as the cation, in processed, dried potato waste.

(b) Section 18 emergency exemptions. [Reserved]

(c) Tolerances with regional registrations. [Reserved]

(d) Indirect or inadvertent residues. [Reserved]

8. By revising § 180.227 to read as follows

§ 180.227 Dicamba; tolerances for residues.

(a) General. (1) Tolerances are established for the combined residues of the herbicide dicamba (3,6-dichloro-o-anisic acid) and its metabolite 3,6-dichloro-5-hydroxy-o- anisic acid in or on the food commodities as follows:

Commodity | Parts per million
Barley, grain | 6.0
Barley, hay | 2.0
Barley, straw | 15.0
Corn, field, forage | 3.0
Corn, field, stover | 3.0
Corn, fodder | 0.5
Corn, forage | 0.5
Corn, grain | 0.5
Corn, pop, stover | 3.0
Cottonseed | 5.0
Cottonseed, meal | 5.0
Crop Group 17 (grass, forage, fodder and hay)
Grass, forage | 125.0
Grass, hay | 200.0
Millet, proso, grain | 0.5
Millet, proso, straw | 0.5
Oats, forage | 80.0
Oats, grain | 0.5
Oats, hay | 20.0
Oats, straw | 0.5
Sorghum, fodder | 3.0
Sorghum, forage | 3.0
Sorghum, grain | 3.0
Sugarcane | 0.1
Sugarcane, fodder | 0.1
Sugarcane forage | 0.1
Sugarcane molasses | 2.0
Wheat, forage | 80.0
Wheat, grain | 2.0
Wheat, hay | 20.0
Wheat, straw | 30.0

(2) Tolerances are established for the combined residues of the herbicide dicamba (3,6-dichloro-o-anisic acid) and its metabolite 3,6-dichloro-2-hydroxybenzoic acid in or on the food commodities as follows:

Commodity | Parts per million
Asparagus | 4.0
Cattle, fat | 0.2
Cattle, kidney | 1.5
Cattle, liver | 1.5
Cattle, mbyp | 0.2
Cattle, meat | 0.2
Goats, fat | 0.2
Goats, kidney | 1.5
Goats, liver | 1.5
Goats, mbyp | 0.2
Goats, meat | 0.2
Hogs, fat | 0.2
Hogs, kidney | 1.5
Hogs, liver | 1.5
Hogs, mbyp | 0.2
Hogs, meat | 0.2
Horses, fat | 0.2
Horses, kidney | 1.5
Horses, liver | 1.5
Horses, mbyp | 0.2
Horses, meat | 0.2
Milk | 0.3
Sheep, fat | 0.2
Sheep, kidney | 1.5
Sheep, liver | 1.5
Sheep, mbyp | 0.2
Sheep, meat | 0.2

(3) Tolerances are established for the combined residues of dicamba (3,6-dichloro-o-anisic and its metablites 3,6-dichloro-5-hydroxy-o-anisic acid and 3,6-dichloro-2-hydroxybenzoic acid in or on the food commodities as follows:

Commodity | Parts per million
Aspirated grain fractions | 5100.0
Soybean, hulls | 13.0
Soybean, seed | 10.0

(b) Section 18 emergency exemptions. [Reserved]

(c) Tolerances with regional registrations. [Reserved]

(d) Indirect or inadvertent residues. [Reserved]

9. By revising § 180.259 to read as follows:

§ 180.259 Propargite; tolerances for residues.

(a) General. Tolerances are established for residues of the pesticide propargite (2-(p-tert-butylphenoxy) cyclohexyl 2-propynyl sulfite) in or on the following food commodities.

Commodity | Parts per million
Almonds | 0.1
Almonds, hulls | 55
Beans, dry | 0.2
Cattle, fat | 0.1
Cattle, mbyp | 0.1
Cattle, meat | 0.1
Citrus pulp, dried | 40
Corn, fodder | 10
Corn, forage | 10
Corn, grain | 0.1
Cottonseed | 0.1
Eggs | 0.1
Goats, fat | 0.1
Goats, mbyp | 0.1
Goats, meat | 0.1
Grapefruit | 5
Grapes | 10
Hogs, fat | 0.1
Hogs, mbyp | 0.1
Hogs, meat | 0.1
Hops | 15
Hops, dried | 30
Horses, fat | 0.1
Horses, mbyp | 0.1
Horses, meat | 0.1
Lemons | 5
Milk, fat (0.08 ppm in milk) | 2
Mint | 50
Nectarines | 4
Oranges | 5
Peanuts | 0.1
Peanuts, forage | 10
Peanuts, hay | 10
Peanuts, hulls | 10
Poultry, fat | 0.1
Poultry, mbyp | 0.1
Poultry, meat | 0.1
Potatoes | 0.1
Sheep, fat | 0.1
Sheep, mbyp | 0.1
Sheep, meat | 0.1
Sorghum, fodder | 10
Sorghum, forage | 10
Sorghum, grain | 10
Tea, dried | 10
Walnuts | 0.1

(b) Section 18 emergency exemptions. [Reserved]

(c) Tolerances with regional registrations. Tolerances with regional registration, as defined in § 180.1(n), are established for residues of propargite in or on the following raw agricultural commodities:

Commodity | Parts per million
Corn, sweet, kernal plus cob with husks removed | 0.1

(d) Indirect or inadvertent residues. [Reserved]

10. By revising § 180.269 to read as follows:

§ 180.269 Aldicarb; tolerances for residues.

(a) General. Tolerances are established for combined residues of the insecticide and nematocide aldicarb (2-methyl-2-(methylthio)propionaldehyde O-(methylcarbamoyl) oxime and its cholinesterase-inhibiting metabolites 2-methyl 2-(methylsulfinyl) propionaldehyde O-(methylcarbamoyl) oxime and 2-methyl-2-(methylsulfonyl) propionaldehyde O-(methylcarbamoyl) oxime in or on the following food commodities:

Commodity | Parts per million
Beans (dry) | 0.1
Beets, sugar | 0.05
Beets, sugar, tops | 1
Cattle, fat | 0.01
Cattle, mbyp | 0.01
Cattle, meat | 0.01
Citrus pulp, dried | 0.6
Coffee beans | 0.1
Cottonseed | 0.1
Cottonseed, hulls | 0.3
Goats, fat | 0.01
Goats, mbyp | 0.01
Goats, meat | 0.01
Grapefruits | 0.3
Hogs, fat | 0.01
Hogs, mbyp | 0.01
Hogs, meat | 0.01
Horses, fat | 0.01
Horses, mbyp | 0.01
Horses, meat | 0.01
Lemons | 0.3
Limes | 0.3
Milk | 0.002
Oranges | 0.3
Peanuts | 0.05
Pecans | 0.5
Potatoes | 1
Sheep, fat | 0.01
Sheep, mbyp | 0.01
Sheep, meat | 0.01
Sorghum, bran | 0.5
Sorghum, fodder | 0.5
Sorghum, grain | 0.2
Soybeans | 0.02
Sugarcane | 0.02
Sugarcane, fodder | 0.1
Sugarcane, forage | 0.1
Sweet potato | 0.1

(b) Section 18 emergency exemptions. [Reserved]

(c) Tolerances with regional registrations. [Reserved]

(d) Indirect or inadvertent residues. [Reserved]

11. By revising § 180.300 to read as follows:

§ 180.300 Ethephon; tolerances for residues.

(a) General. Tolerances are established for residues of the plant regulator ethephon [(2-chloroethyl) phosphonic acid] in or on food commodities as follows:

Commodity | Parts per million
Apples | 5
Barley, bran | 5.0
Barley, grain | 2.0
Barley, pearled barley | 5.0
Barley, straw | 10.0
Blackberries | 30
Blueberries | 20
Cantaloupes | 2
Cattle, fat | 0.1
Cattle, mbyp | 0.1
Cattle, meat | 0.1
Cherries | 10
Coffee beans | 0.1(N)
Cottonseed | 2.0
Cranberries | 5
Cucumbers | 0.1
Fig | 5
Goat, fat | 0.1
Goats, mbyp | 0.1
Goats, meat | 0.1
Grapes | 2.0
Hogs, fat | 0.1
Hogs, mbyp | 0.1
Hogs, meat | 0.1
Horses, fat | 0.1
Horses, mbyp | 0.1
Horse, meat | 0.1
Nut, macadamia | 0.5
Milk | 0.1
Peppers | 30
Pineapple | 2
Pumpkin | 0.1
Raisin | 12
Sheep, fat | 0.1
Sheep, mbyp | 0.1
Sheep, meat | 0.1
Sugarcane, molasses | 1.5
Tomato | 2
Walnuts | 0.5
Wheat bran | 5.0
Wheat, grain | 2.0
Wheat, middlings | 5.0
Wheat, shorts | 5.0
Wheat, straw | 10.0

(b) Section 18 emergency exemptions. [Reserved]

(c) Tolerances with regional registrations. A tolerance with regional registration, as defined in § 180.1(n), of 0.1 part per million is established for residues of the plant regulator ethephon [(2-chloroethyl)phosphonic acid] in or on the food commodity sugarcane.

(d) Indirect or inadvertent residues. [Reserved]

12. By revising § 180.342 to read as follows:

§ 180.342 Chloropyrifos; tolerances for residues.

(a) General. (1) Tolerances are established for combined residues of the pesticide chlorpyrifos (O,O-diethyl O-(3,5,6-trichloro-2-pyridyl) phosphorothioate and its metabolite 3,5,6-trichloro-2-pyridinol in or on the following food commodities:

Commodity | Parts per million
Almonds | 0.2
Almonds, hulls | 12.0
Apples | 1.5
Beans, lima | 0.05
Beans, lima, forage | 1.0
Beans, snap | 0.05
Beans, snap, forage | 1.0
Beets, sugar, molasses | 15.0
Beets, sugar, pulp (dried) | 5.0
Beets, sugar, roots | 1.0
Beets, sugar, tops | 8.0
Blueberries | 2 ppm (of which no more than 1 ppm is chlorpyrifos)
Citrus pulp, dried | 5.0
Citrus fruits | 1.0
Citrus oil | 25.0
Corn, fresh (inc. sweet K+CWHR) | 0.1
Corn oil | 3.0
Cranberries | 1.0
Kiwifruit | 2.0
Mushrooms | 0.1
Onions (dry bulb) | 0.5
Peppers | 1.0
Seed and pod vegetables | 0.1
Sorghum, fodder | 6.0
Sorghum, forage | 1.5
Sorghum, grain | 0.75
Sorghum milling fractions | 1.5
Sunflower, seeds | 0.25
Tomatoes | 0.5
Tree nuts | 0.2
Vegetables, leafy, Brassica (cole) | ¹2.0
Walnuts | 0.2
¹ Of which no more than 1.0 ppm is chlorpyrifos.

(2) Tolerances are established for residues of the pesticide chlorpyrifos (O,O-diethyl O-(3,5,6-trichloro-2-pyridyl) phosphorothioate in or on the following food commodities:

Commodity | Parts per million
Alfalfa, forage | 3
Alfalfa, hay | 13
Bananas, whole | 0.1
Bananas, pulp with peel removed | 0.01
Bean, forage | 0.7
Broccoli | 1
Brussels sprouts | 1
Cabbage | 1
Caneberries | 1.0
Cattle, fat | 0.3
Cattle, meat and meat byproducts | 0.05
Cauliflower | 1
Cherries | 1
Chinese cabbage | 1
Corn, field, grain | 0.05
Corn, forage and fodder | 8
Cottonseed | 0.2
Cucumbers | 0.05
Eggs | 0.01
Figs | 0.01
Goats, fat | 0.2
Goats, meat and meat byproducts | 0.05
Hogs, fat | 0.2
Hogs, meat and meat byproducts | 0.05
Horses, meat, fat, and meat byproducts | 0.25
Legume vegetables, succulent or dried (except soybeans) | 0.05
Milk, fat | 0.25
Milk, whole | 0.01
Milling fractions (except flour) of wheat | 1.5
Mint, hay | 0.8
Mint oil | 8
Nectarines | 0.05
Pea forage | 0.7
Peaches | 0.05
Peanut oil | 0.4
Peanuts | 0.2
Pears | 0.05
Plums | 0.05
Poultry, meat, fat, and meat byproducts (inc. turkeys) | 0.1
Pumpkins | 0.05
Radishes | 2
Rutabagas | 0.5
Sheep, fat | 0.2
Sheep, meat and meat byproducts | 0.05
Soybean grain | 0.3
Soybean forage | 0.7
Strawberries | 0.2
Sugarcane | 0.01
Sweet potatoes | 0.05
Turnip greens | 0.3
Turnips | 1
Wheat, grain | 0.5
Wheat, straw | 6
Wheat, forage | 3

(3) Chlorpyrifos [O,O-diethyl O-(3,5,6-trichloro-2-pyridyl) phosphorothioate] may be safely used in accordance with the following prescribed conditions.

(i) Application shall be limited solely to spot and/or crack and crevice treatment in food handling establishments where food and food products are held, processed, prepared or served. Contamination of food or food contact surfaces shall be avoided. Food must be removed or covered during treatment.

(ii) Spray concentration for spot treatment shall be limited to a maximum of 0.5 percent of the active ingredient by weight. A course, low-pressure spray shall be used to avoid atomization or splashing of the spray.

(iii) Paint-on application for spot treatment shall be limited to a maximum of 2 percent of the active ingredient by weight.

(iv) Crack and crevice treatment shall be limited to a maximum of 2 percent of the active ingredient by weight. Equipment capable of delivering a pin-stream of insecticide shall be used.

(v) Application via adhesive strips shall contain a maximum of 10% by weight of the controlled-release product in food-handling establishments where food and food products are held, processed, prepared, or served. A maximum of 36 strips (or 5.15 grams of chlorpyrifos) is to be used per 100 square feet of floor space. The strips are not to be placed in exposed areas where direct contact with food, utensils, and food-contact surfaces would be likely to occur.

(vi) To assure safe use of the insecticide, its label and labeling shall conform to that registered by the U.S. Environmental Protection Agency, and it shall be used in accordance with such label and labeling.

(4) A tolerance of 0.1 part per million is established for residues of chlorpyrifos, per se, in or on all food items (other than those already covered by a higher tolerance as a result of use on growing crops) in food service establishments where food and food products are prepared and served, as a result of the application of chlorpyrifos in microencapsulated form.

(i) Application of a microencapsulated product shall be limited solely to spot and/or crack and crevice treatment in food handling establishments where food and food products are prepared and served. All treatments shall be applied in such a manner as to avoid contamination of food or food contact surfaces.

(ii) Spray concentrations shall be limited to a maximum of 0.5 percent of the active ingredient by weight.

(iii) For crack and crevice treatment, equipment capable of delivering a pin stream of spray directly into cracks and crevices or capable of applying small amounts of insecticide into cracks and crevices shall be used.

(iv) For spot treatment, an individual spot shall not exceed 2 square feet.

(v) To assure safe use of the insecticide, its label and labeling shall conform to that registered by the U.S. Environmental Protection Agency, and it shall be used in accordance with such label and labeling.

(b) Section 18 emergency exemptions. [Reserved]

(c) Tolerances with regional registrations. (1) Tolerances with regional registration, as defined in § 180.1(n), are established for the combined residues of chlorpyrifos and its metabolite 3,5,6-trichloro-2-pyridinol in or on the following food commodities:

Commodity | Parts per million
Asparagus | 5.0
Dates | 0.5 (of which no more than 0.3 ppm is chlorpyrifos)
Grapes | 0.5
Leeks | 0.5 (of which no more than 0.2 ppm is chlorpyrifos)

(2) Tolerances with regional registration, as defined in § 180.1(n), are established for residues of the pesticide chlorpyrifos (O,O-diethyl O-(3,5,6-trichloro-2-pyridyl)phosphorothioate) in or on the following food commodities:

Commodity | Parts per million
Cherimoya | 0.05
Feijoa (pineapple guava) | 0.05
Sapote | 0.05

(d) Indirect or inadvertent residues. [Reserved]

13. By revising § 180.349 to read as follows:

§ 180.349 Fenamiphos; tolerances for residues.

(a) General. (1) Tolerances are established for the combined residues of the nematocide Fenamiphos (ethyl 3-methyl-4-(methylthio)phenyl (1- methylethyl) phosphoramidate) and its cholinesterase inhibiting metabolites ethyl 3-methyl-4-(methylsulfinyl)phenyl (1- methylethyl)phosphoramidate and ethyl 3-methyl-4-(methylsulfonyl)phenyl (1-methylethyl) phosphoramidate in or on the following food commodities:

Commodity | Parts per million
Apples | 0.25
Bananas | 0.10
Brussels sprouts | 0.10
Cabbage | 0.10
Cherries | 0.25
Citrus, oil | 25.0
Citrus pulp, dried | 2.5
Cottonseed | 0.05
Eggplant | 0.1
Garlic | 0.50
Grapefruit | 0.60
Grapes | 0.10
Lemons | 0.60
Limes | 0.60
Okra | 0.30
Oranges | 0.60
Peaches | 0.25
Peanuts | 0.02
Pineapples | 0.30
Pineapples, bran | 10.0
Raisins | 0.3
Raspberries | 0.1
Strawberries | 0.6
Tangerines | 0.60

(2) Tolerances are established for the combined residues of the nematocide Fenamiphos (ethyl 3-methyl-4-(methylthio)phenyl (1- methylethyl)phosphoramidate) and its cholinesterase-inhibiting metabolites ethyl 3-methyl-4-(methylsulfinyl)phenyl (1- methylethyl)phosphoramidate, ethyl 3-methyl-4-(methylsulfonyl)phenyl (1- methylethyl)phosphoramidate, ethyl 3-methyl-4-(methylthio)phenyl phosphoramidate, ethyl-4-(methylsulfinyl)phenyl phosphoramidate, and ethyl 3-methyl-4-(methyl-sulfonyl)phenyl phosphoramidate in or on the following raw agricultural meat commodities:

Commodity | Parts per million
Cattle, fat | 0.05
Cattle, meat | 0.05
Cattle (mbyp) | 0.05
Goats, fat | 0.05
Goats, meat | 0.05
Goats (mbyp) | 0.05
Hogs, fat | 0.05
Hogs, meat | 0.05
Hogs (mbyp) | 0.05
Horses, fat | 0.05
Horses, meat | 0.05
Horses (mbyp) | 0.05
Milk | 0.01
Sheep, fat | 0.05
Sheep, meat | 0.05
Sheep (mbyp) | 0.05

(b) Section 18 emergency exemptions. [Reserved]

(c) Tolerances with regional registrations. Tolerances with regional registration, as defined in § 180.1(n), are established for the combined residues of Fenamiphos (ethyl 3-methyl-4-(methylthio)phenyl (1-methylethyl) phosphoramidate) and its cholinesterase-inhibiting metabolites ethyl 3-methyl-4-(methylsulfinyl)phenyl (1-methylethyl) phosphoramidate and ethyl 3-methyl-4-(methylsulfonyl)phenyl (1-methylethyl) phosphoramidate in or on the following raw agricultural commodities:

Commodity | Parts per million
Asparagus | 0.02
Beets, garden, roots | 1.5
Beets, garden, tops | 1.0
Bok choy | 0.5
Kiwifruit | 0.1
Peppers, non-bell | 0.6

(d) Indirect or inadvertent residues. [Reserved]

14. By revising § 180.359 to read as follows:

§ 180.359 Methoprene; tolerances for residues.

(a) General. (1) Tolerances are established for residues of the insect growth regulator methoprene (isopropyl (E,E)-11-methoxy-3,7,11-trimethyl-2,4-dodecadienoate) in or on the following food commodities:

Commodity | Parts per million
Barley | 5.0
Buckweat | 5.0
Cattle, fat | 1.0
Cattle, meat | 0.1
Cattle, meat byproducts | 0.1
Cereal grain milled fractions (except flour and rice hulls) | 10
Corn (except popcorn and sweetcorn) | 5.0
Eggs | 0.1
Goats, fat | 1.0
Goats, meat | 0.1
Goats, meat byproducts | 0.1
Hogs, fat | 1.0
Hogs, meat | 0.1
Hogs, meat byproducts | 0.1
Horses, fat | 1.0
Horses, meat | 0.1
Horses, meat byproducts | 0.1
Milk | 0.1
Millet | 5.0
Mushrooms | 1.0
Oats | 5.0
Peanuts | 2.0
Poultry, fat | 1.0
Poultry, meat | 0.1
Poultry, meat byproducts | 0.1
Rice | 5.0
Rice hulls | 25
Rye | 5.0
Sheep, fat | 1.0
Sheep, meat | 0.1
Sheep, meat byproducts | 0.1
Sorghum (milo) | 5.0
Wheat | 5.0

(2) Methoprene (isopropyl (E,E)-11-methoxy-3,7,11- trimethyl-2,4-dodecadienoate) may be safely used in accordance with the following prescribed conditions:

(i) It is used in the form of mineral and/or protein blocks or other feed supplements in the feed of cattle at the rate of 22.7 to 45.4 milligrams per 100 pounds of body weight per month.

(ii) It is used to prevent the breeding of hornflies in the manure of treated cattle.

(iii) To ensure safe use of the pesticide, the label and labeling of the pesticide formulation containing this pesticide shall conform to the label and labeling registered by the U.S. Environmental Protection Agency.

(b) Section 18 emergency exemptions. [Reserved]

(c) Tolerances with regional registrations. [Reserved]

(d) Indirect or inadvertent residues. [Reserved]

15. By revising § 180.362 to read as follows:

§ 180.362 Hexakis (2-methyl-2-phenylpropyl)distannoxane; tolerances for residues.

(a) General. Tolerances are established for the combined residues of the insecticide hexakis[2-methyl-2-phenylpropyl] distannoxane and its organotin metabolites calculated as hexakis[2-methyl-2-phenylpropyl] distannoxane in or on the following food commodities:

Commodity | Parts per million
Almonds | 0.5
Almonds, hulls | 80.0
Apples | 15.0
Cattle, fat | 0.5
Cattle, mbyp | 0.5
Cattle, meat | 0.5
Cherries, sour | 6.0
Cherries, sweet | 6.0
Citrus fruits | 20.0
Citrus oil | 140.0
Citrus pulp, dried | 100.0
Cucumbers | 4.0
Eggplant | 6.0
Eggs | 0.1
Goats, fat | 0.5
Goats, mbyp | 0.5
Goats, meat | 0.5
Grapes | 5.0
Hogs, fat | 0.5
Hogs, mbyp | 0.5
Hogs, meat | 0.5
Horses, fat | 0.5
Horses, mbyp | 0.5
Horses, meat | 0.5
Milk fat | 0.1
Papayas | 2.0
Pecans | 0.5
Peaches | 10.0
Pears | 15.0
Plums | 4.0
Poultry, fat | 0.1
Poultry, mbyp | 0.1
Poultry, meat | 0.1
Prunes | 4.0
Prunes, dried | 20.0
Raisins | 20.0
Sheep, fat | 0.5
Sheep, mbyp | 0.5
Sheep, meat | 0.5
Strawberries | 10.0
Walnuts | 0.5

(b) Section 18 emergency exemptions. [Reserved]

(c) Tolerances with regional registrations. Tolerances with regional registration are established for residues of the insecticide hexakis [2-methyl-2-phenylpropyl] distannoxane and its organotin metabolites calculated as hexakis [2-methyl-2-phenylpropyl] distannoxane in or on the food commodities:

Commodity | Parts per million
Raspberries | 10.0

(d) Indirect or inadvertent residues. [Reserved]

16. By revising § 180.367 to read as follows:

§ 180.367 n-Octyl bicycloheptenedicarboximide; tolerances for residues.

(a) General. (1) Tolerances are established for residues of the insecticide n-octyl bicycloheptene-dicarboximide, resulting from dermal application, in food commodities as follows:

Commodity | Parts per million
Cattle, fat | 0.3
Goats, fat | 0.3
Hogs, fat | 0.3
Horses, fat | 0.3
Milk, fat | 0.3
Sheep, fat | 0.3

(2) N-octylbicycloheptene dicarboximide may be safely used in accordance with the following prescribed conditions:

(i) It is used in combination with piperonyl butoxide and pyrethrins for insect control in food-processing and food-storage areas, provided that the food is removed or covered prior to such use.

(ii) Residues in food resulting from the use described in paragraph (a)(2)(i) of this section shall not exceed 10 parts per million of N-octylbicycloheptene dicarboximide, 10 parts per million of piperonyl butoxide, and 1 part per million of pyrethrins.

(iii) To assure safe use of the pesticide, its label and labeling shall conform to that registered with the U.S. Environmental Protection Agency and it shall be used in accordance with such label and labeling.

(b) Section 18 emergency exemptions. [Reserved]

(c) Tolerances with regional registrations. [Reserved]

(d) Indirect or inadvertent residues. [Reserved]

17. By revising § 180.382 to read as follows:

§ 180.382 Triforine; tolerances for residues.

(a) General. Tolerances are established for residues of the fungicide triforine (N,N-[1,4-piperazinediylbis(2,2,2-trichloroethylidene)]bis[formamide]) in or on the following food commodities:

Commodity | Parts per million
Almond hulls | 0.20
Almond (nutmeats) | 0.01
Apples | 0.01
Apricots | 8.0
Bell peppers | 5.0
Blueberries | .1
Cantaloupes | 1.0
Cherries | 3.0
Cranberries | .1
Cucumbers | .5
Eggplant | 1.0
Hops, dried | 60
Hops, spent | 60
Nectarines | 8.0
Peaches | 8.0
Plums | 3.0
Prunes (fresh) | 3.0
Strawberries | 2.0
Watermelon | 1.0

(b) Section 18 emergency exemptions. [Reserved]

(c) Tolerances with regional registrations. Tolerances with regional registration are established for residues of the fungicide triforine (N,N¼-[1,4-piperazinediylbis (2,2,2-trichloroethylidene)[bis (formamide)) in or on the following food commodities:

Commodity | Parts per million
Asparagus | 0.01

(d) Indirect or inadvertent residues. [Reserved]

18. By revising § 180.396 to read as follows:

§ 180.396 Hexazinone; tolerances for residues.

(a) General. Tolerances are established for combined residues of the herbicide hexazinone (3-cyclohexyl-6-(dimethylamino)-1-methyl-1, 3, 5-triazine-2,4(1H,3H)-dione) and its metabolites (calculated as hexazinone) in or on the following food commodities:

Commodity | Parts per million
Alfalfa green forage | 2.0
Alfalfa hay | 8.0
Blueberries | 0.2
Cattle, fat | 0.1
Cattle, mbyp | 0.1
Cattle, meat | 0.1
Goats, fat | 0.1
Goats, mbyp | 0.1
Goats, meat | 0.1
Grasses, pasture | 10
Grasses, range | 10
Hogs, fat | 0.1
Hogs, mbyp | 0.1
Hogs, meat | 0.1
Horses, fat | 0.1
Horses, mbyp | 0.1
Horses, meat | 0.1
Milk | 0.1
Pineapple (whole fruit) | 0.5
Sheep, fat | 0.1
Sheep, mbyp | 0.1
Sheep, meat | 0.1

(b) Section 18 emergency exemptions. [Reserved]

(c) Tolerances with regional registrations. A tolerance with regional registration, as defined in § 180.1(n) and which excludes use of hexazinone on sugarcane in Florida, is established for combined residues of the herbicide hexazinone (3-cyclohexyl-6-(dimethyamino)-1-methyl-1,3,5-triazine-2,4(1H,3H)-dione) and its metabolites (calculated as hexazinone) in or on the following food commodities:

Commodity | Parts per million
Sugarcane | 0.2
Sugarcane molasses | 5.0

(d) Indirect or inadvertent residues. [Reserved]

19. By revising § 180.409 to read as follows:

§ 180.409 Pirimiphos-methyl; tolerances for residues.

(a) General. (1) Tolerances are established for the combined residues of the insecticide pirimiphos-methyl, O-[2-diethylamino-6-methyl-4-pyrimidinyl) O,O-dimethyl phosphorothioate, the metabolite O-[2-ethylamino-6-methyl-pyrimidin-4-yl) O,O-dimethyl phosphorothioate and, in free and conjugated form, the metabolites 2-diethylamino-6-methyl-pyrimidin-4-ol), 2-ethylamino-6-methyl-pyrimidin-4-ol, and 2-amino-6-methyl-pyrimidin-4-ol in or on the following food commodities:

Commodity | Parts per million
Corn | 8.0
Cattle fat | 0.2
Cattle, kidney and liver | 2.0
Cattle, mbyp | 0.2
Cattle, meat | 0.2
Eggs | 0.5
Goats, fat | 0.2
Goats, kidney and liver | 2.0
Goats, mbyp | 0.2
Goats, meat | 0.2
Hogs, fat | 0.2
Hogs, kidney and liver | 2.0
Hogs, mbyp | 0.2
Hogs, meat | 0.2
Horses, fat | 0.2
Horses, kidney and liver | 2.0
Horses, mbyp | 0.2
Horses, meat | 0.2
Kiwifruit | 5.0
Milk, fat (0.1 ppm (N) in whole milk) | 3.0
Poultry, fat | 0.2
Poultry, mbyp | 2.0
Poultry, meat | 2.0
Sheep, fat | 0.2
Sheep, kidney and liver | 2.0
Sheep, mbyp | 0.2
Sheep, meat | 0.2
Sorghum, grain | 8.0

(2) Tolerances are established for the combined residues of the insecticide pirimiphos-methyl (O-[2-diethylamino-6-methyl-4-pyrimidinyl] O,O-dimethyl phosphorothioate) and its metabolite O-(2-ethylamino-6-methyl-pyrimidin-4-yl) O,O-dimethyl phosphorothioate and, in free and conjugated forms, the metabolites 2-diethylamino-6-methyl-pyrimidin-4-ol, 2-ethylamino-6-methyl-pyrimidin-4-ol, and 2-amino-6-methyl-pyrimidin-4-ol in or on the following food commodities when present therein as a result of application to stored grains:

Food | Parts per million
Corn milling fractions (except flour) | 40
Corn oil | 88
Sorghum milling fractions (except flour) | 40

(3) A tolerance of 8.0 parts per million is established for residues of the insecticide pirimiphos-methyl (0-[2-diethylamino-6-methyl-4-pyrimidinyl]O,O-dimethyl phosphorothioate) and its metabolite O-(2-ethylamino-6-methyl-pyrimidine-4-yl)O,O-dimethylphosphorothioate and, in free and conjugated forms, the metabolites 2-diethylamino-6-methyl-pyrimidin-4-ol,2-ethylamino-6-methyl-pyrimidin-4-ol, and 2-amino-6-methylpyrimidin-4-ol in or on the processed commodity wheat flour as a result of application to stored wheat grain. There are no U.S. registrations for use of pirimiphos-methyl on wheat, as of June 12, 1990.

(b) Section 18 emergency exemptions. [Reserved]

(c) Tolerances with regional registrations. [Reserved]

(d) Indirect or inadvertent residues. [Reserved]

20. By revising § 180.411 to read as follows:

§ 180.411 Fluazifop-butyl; tolerances for residues.

(a) General. (1) Tolerances are established for residues of the herbicide fluazifop-butyl (#)-2-[4-[5-(trifluoromethyl)-2-pyridinyl]oxy]phenoxy propanoic acid (fluazifop), both free and conjugated and of (#)-2-[4-[5-(trifluoromethyl)-2-pyridinyl]oxy]phenoxy propanoate (fluazifop-butyl), all expressed as fluazifop, in or on the following food commodities:

Commodity | Parts per million
Cattle, fat | 0.05
Cattle, meat | .05
Cattle, mbyp | .05
Cottonseed | .1
Cottonseed, oil | 0.2
Eggs | .05
Goats, fat | .05
Goats, meat | .05
Goats, mbyp | .05
Hogs, fat | .05
Hogs, meat | .05
Hogs, mbyp | .05
Horses, fat | .05
Horses, meat | .05
Horses, mbyp | .05
Milk | .05
Poultry, fat | .05
Poultry, meat | .05
Poultry, mbyp | .05
Sheep, fat | .05
Sheep, meat | .05
Sheep, mbyp | .05
Soybeans | 1.0
Soybean, meal | 2.0
Soybean, oil | 2.0

(2) Tolerances are established for residues of the resolved isomer of fluazifop, (R)-2-[4-[[5-(trifluoromethyl)-2-pyridinyl]oxy]phenoxy]propanoic acid, both free and conjugated and of fluazifop-P-butyl, butyl(R)-2-[4-[[5-(trifluoromethyl)-2-pyridinyl]oxy]phenoxy]propanoate, all expressed as fluazifop, in or on the food commodity:

Commodity | Parts per million
Carrots | 2.0
Endive | 6.0
Macadamia nuts | 0.1
Onions (bulb) | 0.5
Pecans | 0.05
Spinach | 6.0
Stone fruits | 0.05
Sweet potatoes | 0.5

(b) Section 18 emergency exemptions. [Reserved]

(c) Tolerances with regional registrations. (1) Tolerances with regional registration are established for residues of fluazifop-butyl (#)-2-[4-[5-(trifluoromethyl)-2-pyridinyl]oxy]phenoxy propanoic acid (fluazifop), both free and conjugated and of (#)-butyl-2-[4-[5-(trifluoromethyl)-2-pyridinyl]oxy]phenoxy propanoate (fluazifop-butyl), all expressed as fluazifop, in or on the following food commodities:

Commodity | Parts per million
Peppers, tabasco | 1.0

(2) Tolerances with regional registration, see § 180.1(n), are established for residues of the resolved isomer of the herbicide fluazifop, (R)-2-[4-[[5-(trifluoromethyl)-2-pyridinyl]-oxy]phenoxy] propanoic acid, both free and conjugated and of fluazifop-P-butyl, butyl[R]-2-[4-[[5-(trifluoromethyl)-2-pyridinyl]oxy]phenoxy] propanoate, all expressed as fluazifop, in or on the food commodities:

Commodity | Parts per million
Asparagus | 3.0
Coffee | 0.1
Rhubarb | 0.5

(d) Indirect or inadvertent residues. [Reserved]

21. By revising § 180.413 to read as follows:

§ 180.413 Imazalil; tolerances for residues.

(a) General. (1) Tolerances are established for the combined residues of the fungicide imazalil 1-[2-(2,4-dichlorophenyl)-2-(2-propenyloxy)ethyl]-1H-imidazole and its metabolite 1-(2,4-dichlorophenyl)-2-(1H-imidazole-1-yl)-1-ethanol in or on the following food commodities:

Commodity | Parts per million
Bananas (Whole) | 3.00
Bananas (Pulp) | 0.20
Barley, grain | 0.05
Barley, straw | 0.5
Citrus fruit (POST-H) | 10.0
Citrus oil | 25.0
Citrus pulp (dried) | 25.0
Cottonseed | 0.05
Wheat, forage | 0.5
Wheat, grain | 0.05
Wheat, straw | 0.5

(2) Tolerances are established for the combined residues of the fungicide imazalil 1-[2-(2,4-dichlorophenyl)-2-(2-propenyloxy)ethyl]-1H-imidazole and its metabolites 1-(2,4-dichlorophenyl)-2-(1H-imidazole-1-yl)-1-ethanol and 3-[1-(2,4-dichlorophenyl)-2-(1H-imidazole-1-yl)ethoxyl]-1,2-propane diol in or on the following food commodities:

Commodity | Parts per million
Cattle, fat | 0.01
Cattle, liver | 0.50
Cattle, meat | 0.01
Cattle, mbyp | 0.01
Goats, fat | 0.01
Goats, liver | 0.50
Goats, meat | 0.01
Goats, mbyp | 0.01
Hogs, fat | 0.01
Hogs, liver | 0.50
Hogs, meat | 0.01
Hogs, mbyp | 0.01
Horses, fat | 0.01
Horses, liver | 0.50
Horses, meat | 0.01
Horses, mbyp | 0.01
Milk | 0.01
Sheep, fat | 0.01
Sheep, liver | 0.50
Sheep, meat | 0.01
Sheep, mbyp | 0.01

(b) Section 18 emergency exemptions. [Reserved]

(c) Tolerances with regional registrations. [Reserved]

(d) Indirect or inadvertent residues. [Reserved]

22. By revising § 180.419 to read as follows:

§ 180.419 Chlorpyrifos-methyl; tolerances for residues.

(a)General. (1) Tolerances are established for the combined residues of the insecticide chlorpyrifos-methyl [O,-O,-dimethyl O-(3,5,6-trichloro-2-pyridyl)] phosphorothioate and its metabolite (3,5,6-trichloro-2-pyridinol) in or on the following food commodities:

Commodity | Parts per million
Barley, grain | 6.0
Cattle, fat | 0.5
Cattle, meat | 0.5
Cattle, mbyp | 0.5
Eggs | 0.1
Goats, fat | 0.5
Goats, meat | 0.5
Goats, mbyp | 0.5
Hogs, fat | 0.5
Hogs, meat | 0.5
Hogs, mbyp | 0.5
Horses, fat | 0.5
Horses, meat | 0.5
Horses, mbyp | 0.5
Milk, fat (0.05 ppm (N) in whole milk | 1.25
Oats, grain | 6.0
Poultry, fat | 0.5
Poultry, meat | .5
Poultry, mbyp | .5
Rice, grain | 6.0
Sheep, fat | 0.5
Sheep, meat | 0.5
Sheep, mbyp | 0.5
Sorghum, grain | 6.0
Wheat, grain | 6.0

(2) Tolerances are established for the combined residues of the insecticide chlorpyrifos-methyl (O,-O- dimethyl-O-(3,5,6-trichloro-2-pyridyl) phosphorothioate and its metabolite (3,5,6-trichloro-2-pyridinol) in or on the following food commodities when present therein as a result of application to stored grains:

Food | Parts per million
Barley milling fractions (except flour) | 90
Oats milling fractions (except flour) | 130
Rice milling fractions (except flour) | 30
Sorghum milling fractions (except flour) | 90
Wheat milling fractions (except flour) | 30

(b) Section 18 emergency exemptions. [Reserved]

(c) Tolerances with regional registrations. [Reserved]

(d) Indirect or inadvertent residues. [Reserved]

23. By addding § 180.538 to read as follows:

§ 180.538 Copper; tolerances for residues.

(a) General. A tolerance of 1 part per million is established in potable water for residues of copper resulting from the use of the algicides or herbicides basic copper carbonate (malachite), copper sulfate, copper monoethanolamine, and copper triethanolamine to control aquatic plants in reservoirs, lakes, ponds, irrigation ditches, and other potential sources of potable water.

(b) Section 18 emergency exemptions. [Reserved]

(c) Tolerances with regional registrations. [Reserved]

(d) Indirect or inadvertent residues. [Reserved]

24. By adding § 180.539 to read as follows.

§ 180.539 d-Limonene; tolerances for residues.

(a) General. (1) The insectide d-limonene may be safely used with the active ingredients dihydro-5-pentyl-2(3H)-furanone and dihydro-5-heptyl-2(3H)-furanone in insect-repellent tablecloths and in insect-repellent strips used in food- or feed-handling establishments.

(2) To assure safe use of the insect repellent, its label and labeling shall conform to that registered by the U.S. Environmental Protection Agency, and it shall be used in accordance with such label and labeling.

(b) Section 18 emergency exemptions. [Reserved]

(c) Tolerances with regional registrations. [Reserved]

(d) Indirect or inadvertent residues. [Reserved]

25. By adding § 180.540 as follows:

§ 180.540 Fenitrothion; tolerances for residues.

(a) General. A tolerance of 30 parts per million, of which no more than 15 parts per million is O,O-dimethyl O-(4-nitro-m-tolyl) phosphorothioate or O,O-dimethyl O-(4-nitro-m-tolyl) phosphate, is established for combined residues of the insecticide O,O-dimethyl O-(4-nitro-m-tolyl) phosphorothioate and its metabolites O,O-dimethyl O-(4-nitro-m-tolyl) phosphate and 3-methyl-4-nitrophenol in wheat gluten resulting from postharvest application of the insecticide to stored wheat in Australia.

(b) Section 18 emergency exemptions. [Reserved]

(c) Tolerances with regional registrations. [Reserved]

(d) Indirect or inadvertent residues. [Reserved]

26. By adding § 180.541 to read as follows:

§ 180.541 Propetamphos; tolerances for residues.

(a) A tolerance of 0.1 part per million is established for residues of the insecticide propetamphos ([(e)-]-methylethyl 3-[[(ethylamino) methoxyphosphinothioyl]oxy]-2-butenoate]) in food commodities exposed to the insecticide during treatment of food- or feed-handling establishments.

(1) Direct application shall be limited solely to spot and/or crack and crevice treatment in food-handling establishments where food and food products are held, processed, prepared, or served. Spray and dust concentrations shall be limited to a maximum of 1 percent active ingredient. For crack and crevice treatment, equipment capable of delivering a dust or a pin-stream of spray directly into cracks and crevices shall be used. For spot treatment, a coarse, low-pressure spray shall be used to avoid contamination of food or food-contact surfaces.

(2) Direct application shall be limited solely to spot and/or crack and crevice treatment in feed-handling establishments where feed and feed products are held, processed, prepared, or sold. Spray and dust concentrations shall be limited to a maximum of 1 percent active ingredient. For crack and crevice treatment, equipment capable of delivering a dust or a pinstream of spray directly into cracks and crevices shall be used. For spot treatment, a coarse, low-pressure spray shall be used to avoid contamination of feed or feed-contact surfaces.

(3) To ensure safe use of the insecticide, its label and labeling shall conform to that registered by the U.S. Environmental Protection Agency, and it shall be used in accordance with such label and labeling.

(b) Section 18 emergency exemptions. [Reserved]

(c) Tolerances with regional registrations. [Reserved]

(d) Indirect or inadvertent residues. [Reserved]

27. By adding § 180.542 to read as follows

§ 180.542 Sulprofos; tolerances for residues.

(a) General. A tolerance of 1 part per million is established for residues of the insecticide Sulprofos, O-ethyl O-[4-(methylthio)- phenyl] S-propyl phosphorodithioate and its cholinesterase-inhibiting metabolites in cottonseed oil resulting from application of the pesticide to growing cotton.

(b) Section 18 emergency exemptions. [Reserved]

(c) Tolerances with regional registrations. [Reserved]

(d) Indirect or inadvertent residues. [Reserved]

28. By revising § 180.1017 to read as follows:

§ 180.1017 Diatomaceous earth; exemption from the requirement of a tolerance.

(a) Diatomaceous earth is exempted from the requirement of a tolerance for residues when used in accordance with good agricultural practice in pesticide formulations applied to growing crops, to food commodities after harvest, and to animals.

(b) Diatomaceous earth may be safely used in accordance with the following conditions. Application shall be limited solely to spot and/or crack and crevice treatments in food or feed processing and food or feed storage areas in accordane with the precribed conditions:

(1) It is used or intended for use for control of insects in food or feed processing and food or feed storage areas: Provided, That the food or feed is removed or covered prior to such use.

(2) To assure safe use of the insecticide, its label and labeling shall conform to that registered by the U.S. Environmental Protection Agency, and it shall be used in accordance with such label and labeling.

29. By revising § 180.1049 to read as follows:

§ 180.1049 Carbon dioxide; exemption from the requirement of a tolerance.

The insecticide carbon dioxide is exempted from the requirement of a tolerance when used after harvest in modified atmospheres for stored insect control on food commodities.

30. By revising § 180.1050 to read as follows:

§ 180.1050 Nitrogen; exemption from the requirements of a tolerance.

The insecticide nitrogen is exempted from the requirements of a tolerance when used after harvest in modified atmospheres for stored product insect control on all food commodities.

31. By revising § 180.1051 to read as follows:

§ 180.1051 Combustion product gas; exemption from the requirements of a tolerance.

The insecticide combustion product gas is exempted from the requirements of a tolerance when used after harvest in modified atmospheres for stored product insect control on all food commodities (except fresh meat) with the following prescribed conditions.

(a) The insecticide is produced by the controlled combustion in air of butane, propane, or natural gas. The combustion equipment shall be provided with an absorption type filter capable of removing possible toxic impurities, through which all gas used in the treatment of food shall pass; and with suitable controls to insure that any combustion products failing to meet the specifications provided will be prevented from reaching the food being treated.

(b) The insecticide meets the following specifications:

(1) Carbon monoxide content not to exceed 4.5 percent by volume.

(2) It is used or intended for use to displace or remove oxygen in the storage of food, except fresh meat.

32. By revising § 180.1116 to read as follows:

§ 180.1116 Metarhizium anisopliae strain ESF1; exemption from the requirement of a tolerance.

(a) An exemption from the requirement of a tolerance is established for the microbial pest control agent Metarhizium anisopliae strain ESF1 on all raw agricultural commodities in accordance with the following prescribed conditions:

(1) Application shall be limited solely to placement of attractant stations containing Metarhizium anisopliae strain ESF1.

(2) To ensure safe use of the microbial pest control agent, its label and labeling shall conform to that registered by the U.S. Environmental Protection Agency.

(b) An exemption from the requirement of a tolerance is established allowing the use of the microbial pest-control agent Metarhizium anisopliae strain ESF1 as follows:

(1) Metarhizium anisopliae strain ESF1 may be present as a residue in food items as a result of application of Metarhizium anisopliae strain ESF1 in food-handling establishments, including food service, manufacturing, and processing establishments such as restaurants, cafeterias, supermarkets, bakeries, breweries, dairies, meat-slaughtering and packing plants, and canneries where food and food products are held, processed, and served.

(2) Metarhizium anisopliae strain ESF1 may be present as a residue in or on processed animal feeds as a result of application of Metarhizium anisopliae strain ESF1 in feed-handling establishments, including areas where livestock and poultry feed is consumed, feed-manufacturing establishments and feed-processing establishments such as stores, supermarkets, dairies, poultry houses, livestock barns, meat-slaughtering and packing plants, and canneries, where feed and feed products are held, processed, sold and/or consumed by livestock or poultry.

(c) With respect to paragraphs (b)(1) and (2) of this section, application of the microbial pest control agent shall be limited solely to placement of attractant stations containing Metarhizium anisopliae strain ESF1 in food-handling establishments or in animal feed-handling establishments, and to ensure safe use of the microbial pest control agent, its label and labeling shall conform to that registered by the U.S. Environmental Protection Agency, and it shall be used in accordance with such label and labeling.

II. In part 185:

PART 185—[AMENDED]

1. The authority citation for part 185 continues to read as follows:

Authority: 21 U.S.C. 321(q), 346(a), and 348.

2. By removing part 185 in its entirety.

III. In part 186:

PART 186—[AMENDED]

1. The authority citation for part 186 continues to read as follows:

Authority: 21 U.S.C. 342, 348, and 371.

2. By removing part 186 in its entirety.

[FR Doc. 00-12959 Filed 5-23-00; 8:45 am]

BILLING CODE 6560-50-F